ENVIRONMENTAL PROTECTION AGENCY

[OPPTS-51941; FRL-6494-1]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from January 1, 2000 to January 14, 2000, consists of the PMNs and TMEs, both pending or expired, and the notices of commencement to manufacture a new chemical that the Agency has received under TSCA section 5 during this time period.

ADDRESSES: Comments may be submitted by mail, electronically, or in person. Please follow the detailed instructions for each method as provided in Unit I. of the “SUPPLEMENTARY INFORMATION.” To ensure proper receipt by EPA, it is imperative that you identify docket control number OPPTS-51941 and the specific PMN number in the subject line on the first page of your response.

FOR FURTHER INFORMATION CONTACT: Joe Carra, Deputy Director, Office of Pollution Prevention and Toxics (7401), Office of Pollution Prevention and Toxics, Environmental Protection Agency, Ariel Rios Bldg., 1200 Pennsylvania Ave., NW., Washington, DC 20460; telephone numbers: (202) 554-1404 and TDD: (202) 554-0551; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations” and then look up the entry for this document under the “Federal Register—Environmental Documents.” You can also go directly to the “Federal Register” listings at http://www.epa.gov/fedrgstr/.

2. In person. The Agency has established an official record for this action under docket control number OPPTS-51941. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51941 and the specific PMN number in the subject line on the first page of your response.

1. By mail. Submit your comments to: Document Control Office (7407), Office of Pollution Prevention and Toxics (OPPT), Environmental Protection Agency, Ariel Rios Bldg., 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51941 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under “FOR FURTHER INFORMATION CONTACT.”

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from January 1, 2000 to January 14, 2000, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 75 Premanufacture Notices Received From: 1/1/00 to 1/14/00
Case No. | Received Date | Projected Notice End Date | Manufacturer/Importer | Use | Chemical
P-00-0389 | 01/03/00 | 04/02/00 | CBI | (G) Coating component | (G) Modified polyisocyanate
P-00-0392 | 01/05/00 | 04/04/00 | Wacker Silicones Corp. | (S) Plasters; building adhesive; hydrophobic coatings | (S) Neodecanoic acid, ethenyl ester, polymer with ethene and ethenyl acetate*
P-00-0393 | 01/04/00 | 04/03/00 | Finetex, Inc. | (S) Textile fiber lubricant with high thermal stability, dispersant for tilanium doxide, zinc oxide, pigments, etc. plasticizer for selected polymer systems requiring high thermal stability | (S) Isostearyl benzoate*
P-00-0394 | 01/06/00 | 04/05/00 | Johnson Polymer | (G) Open, non-dispersive use. | (G) Acrylic emulsion polymer
P-00-0395 | 01/07/00 | 04/06/00 | CBI | (S) A radiation curable coating for industrial use | (G) Urethane acrylate
P-00-0396 | 01/10/00 | 04/09/00 | Eastman Chemical company | (S) Plastic additive | (G) Substituted phthalocyanine dye
P-00-0397 | 01/07/00 | 04/06/00 | E.I. Du Pont De Nemours and Co. | (S) Use or process in enclosed systems; electronic industry cleaning solvent; other precision industry cleaning; paint stripping; metal cleaning and degreasing; ink formulations; adhesives; pigment dispersions; emulsifiable concentrate solvent; wetting agent and/or surfactant; coating agent for polymer emulsion coatings; hydrocarbon extraction; polymer synthesis; wire enamel resin; optics; aerospace; other defense industry; automotive manufacturing and similar | (S) 2-piperidinone,1,3-dimethyl-*
P-00-0398 | 01/07/00 | 04/06/00 | E.I. Du Pont De Nemours and Co. | (S) Use or process in enclosed systems; electronic industry cleaning solvent; other precision industry cleaning; paint stripping; metal cleaning and degreasing; ink formulations; adhesives; pigment dispersions; emulsifiable concentrate solvent; wetting agent and/or surfactant; coating agent for polymer emulsion coatings; hydrocarbon extraction; polymer synthesis; wire enamel resin; optics; aerospace; other defense industry; automotive manufacturing and similar | (S) 2-piperidinone,1,5-dimethyl-*
P-00-0399 | 01/10/00 | 04/09/00 | Englehard Corporation | (S) A colorant for plastics | (G) Disazo yellow
P-00-0400 | 01/10/00 | 04/09/00 | CBI | (G) Dye used in Thermal ink Jet Printer | (S) 2,7-naphthalenedisulfonic acid, 6-amino-4-hydroxy-3-[[7-sulfo-4-[(4-sulfophenyl) azo]-1-naphthalenyl]azo]-, compd. with 2,2¼,2 ¼¼- nitrilotris [ethanol] (1:4) *
P-00-0401 | 01/10/00 | 04/09/00 | Reichhold, Inc. | (S) Pigment dispersion carrier | (G) Polyester resin
P-00-0402 | 01/11/00 | 04/10/00 | CBI | (S) Resin for printing inks (offset printing) | (S) Fatty acids, C14-18 and C16-18-unsatd., polymers with isophthalic acid and trimethylolpropane*
P-00-0403 | 01/11/00 | 04/10/00 | CBI | (S) Polyurethane raw material | (S) Poly[oxy (methyl-1,2-ethanediyl)], α-hydro-omega-hydroxy-, ether with 2-ethyl-2-(hydroxymethyl)-1,3-propanediol*
P-00-0404 | 01/11/00 | 04/10/00 | CBI | (S) Polyurethane raw material | (S) Fatty acids, C18-unsatd., dimers, di-me esters, hydrogenated, polymd.
P-00-0405 | 01/12/00 | 04/11/00 | CBI | (G) Processing aid | (S) Benzenesufonic acid, bis (1-methylethyl)-, sodium salt*
P-00-0406 | 01/12/00 | 04/11/00 | CBI | (S) Metalworking lubricant on the preparation of wire & cable | (G) Calcium fatty acid complex.
P-00-0407 | 01/12/00 | 04/11/00 | CBI | (S) Metalworking lubricant on the preparation of wire & cable | (G) Calcium fatty acid complex.
P-00-0408 | 01/12/00 | 04/11/00 | CBI | (S) Metalworking lubricant on the preparation of wire & cable | (G) Calcium fatty acid complex.
P-00-0409 | 01/12/00 | 04/11/00 | CBI | (S) Metalworking lubricant on the preparation of wire & cable | (G) Calcium fatty acid complex.
P-00-0410 | 01/12/00 | 04/11/00 | CBI | (S) Metalworking lubricant on the preparation of wire & cable | (G) Calcium fatty acid complex.
P-00-0411 | 01/12/00 | 04/11/00 | CBI | (S) Metalworking lubricant on the preparation of wire & cable | (G) Calcium fatty acid complex.
P-00-0412 | 01/12/00 | 04/11/00 | CBI | (S) Metalworking lubricant in the preparation of wire & cable | (G) Calcium fatty acid complex
P-00-0413 | 01/12/00 | 04/11/00 | CBI | (S) Metalworking lubricant in the preparation of wire & cable | (G) Calcium fatty acid complex
P-00-0414 | 01/12/00 | 04/11/00 | CBI | (S) Metalworking lubricant in the preparation of wire & cable | (G) Calcium fatty acid complex
P-00-0415 | 01/12/00 | 04/11/00 | CBI | (S) Metalworking lubricant in the preparation of wire & cable | (G) Calcium fatty acid complex
P-00-0416 | 01/12/00 | 04/11/00 | CBI | (S) Metalworking lubricant in the preparation of wire & cable | (G) Calcium fatty acid complex
P-00-0417 | 01/12/00 | 04/11/00 | CBI | (S) Metalworking lubricant in the preparation of wire & cable | (G) Calcium fatty acid complex
P-00-0418 | 01/18/00 | 04/17/00 | CIBA Specialty Chemicals Corp. | (S) Hardener for protective epoxy coatings for metal surfaces; hardener for epoxy coatings for flooring or walls | (G) Alkyl amides, from tetraethylenepentamine
P-00-0419 | 01/14/00 | 04/13/00 | CBI | (G) Copying material for printers and copiers | (G) Polycarbonate polyester
P-00-0420 | 01/18/00 | 04/17/00 | CBI | (G) Colorant | (G) Aromatic compound derivative
P-00-0421 | 01/18/00 | 04/17/00 | CBI | (G) Pigment dispersant | (G) High molecular polymer with amino group
P-00-0422 | 01/18/00 | 04/17/00 | CBI | (G) Coating component | (G) Non-volatile emulsion acrylic polymer
P-00-0423 | 01/18/00 | 04/17/00 | King Industries, Inc. | (S) Corrosion inhibitor for industrial lubricants; corrosion inhibitor for rust preventive coatings | (G) Dinonylnaphthalenesulfonic acid compound with amine
P-00-0424 | 01/18/00 | 04/17/00 | King Industries, Inc. | (S) Corrosion inhibitor for industrial lubricants; corrosion inhibitor for rust preventive coatings | (G) Dinonylnaphthalenesulfonic acid compound with amine
P-00-0425 | 01/19/00 | 04/18/00 | Henkel Corp., Chemicals Group | (G) Dispersing agent | (S) Propanoic acid, 3-hydroxy-2-(hydroxymethyl)-2-methyl-, polymer with 2,2¼-[1,4-butanediylbis(oxymethylene)] bis [oxirane], dihydro-3-(tetrapropenyl)- 2,5-furandione and α-hydro-omega-hydroxypoly (oxy-1,2-ethanediyl), compd. with 2-(dimethylamino) ehthanol*
P-00-0426 | 01/18/00 | 04/17/00 | DMC-2, L.P. | (S) Flux paste used for brazing | (G) Inorganic acid reaction product, with alkaline flouride metal salts
P-00-0427 | 01/11/00 | 04/10/00 | CBI | (G) Semiconductor coatings component | (G) Hydrolyzed alkoxysilane
P-00-0428 | 01/11/00 | 04/10/00 | CBI | (G) Semiconductor coatings component | (G) Hydrolyzed alkoxysilane
P-00-0429 | 01/18/00 | 04/17/00 | Dyneon LLC | (S) Fluoroelastomer for making molded parts | (G) Fluoroelastomer
P-00-0430 | 01/18/00 | 04/17/00 | CBI | (G) Softener | (G) Quaternized ammonium salt
P-00-0431 | 01/19/00 | 04/18/00 | Eastman Kodak Company | (G) Contained use in an article | (G) Substituted alicyclic alkenyl benz[e]indolium salt
P-00-0432 | 01/19/00 | 04/18/00 | Henkel Adhesives - A Henkel Corporation Group | (S) Hot melt adhesive designed for molding/potting.; general hot melt adhesive | (S) Fatty acids, C18-unsatd., dimers, polymers with ethylenediamine, piperazine, polypropylene glycol diamine and sebacic acid*
P-00-0433 | 01/18/00 | 04/17/00 | CBI | (G) Pigment dispersant | (G) Amine neutralized phosphated polyester
P-00-0434 | 01/24/00 | 04/23/00 | CBI | (S) Grease thickner | (G) Alkyl substituted urea
P-00-0435 | 01/24/00 | 04/23/00 | CBI | (S) Chemical intermediate | (G) Aminoalkyl polydimethylsiloxane
P-00-0436 | 01/21/00 | 04/20/00 | CBI | (G) Adhesive for Flexible Substrates | (G) Polyester polyurethane
P-00-0437 | 01/21/00 | 04/20/00 | CBI | (G) Adhesive for Flexible Substrates | (G) Polyester polyurethane
P-00-0438 | 01/21/00 | 04/20/00 | CIBA Specialty Chemicals Corporation | (S) Hardener for epoxy dielectric insulation hardener for pipe bonding | (S) Oxiranemethanamine, n,n¼-(methylenedi-4,1-phenylene) bis [n-(oxiranylmethyl)-, polymer with 4,4¼-methylenebis [2-methylcyclohexanamine]*
P-00-0439 | 01/21/00 | 04/20/00 | CBI | (G) Oilfield polymer | (G) Polymer of acrylamido alkyl propane sulfonic acid ammonium salt and two acrylic monomers
P-00-0440 | 01/21/00 | 04/20/00 | CBI | (G) Open non-dispersive (polyester resin) | (G) Polyester resin
P-00-0441 | 01/24/00 | 04/23/00 | CBI | (G) Oil field additive | (G) Alkyl glyceryl ether sulphonate
P-00-0442 | 01/24/00 | 04/23/00 | CBI | (G) Fertilizer | (G) Zinc ammonium phosphate
P-00-0443 | 01/24/00 | 04/23/00 | The Dow Chemical Company | (G) Fuel additive and chemical intermediate | (G) Alkaryl polyoxyalkylene derivative
P-00-0444 | 01/24/00 | 04/23/00 | The Dow Chemical Company | (G) Fuel additive and chemical intermediate | (G) Alkaryl polyoxyalkylene derivative
P-00-0445 | 01/24/00 | 04/23/00 | CBI | (G) Open, non-dispersive use;polyurethane adhesives & sealants | (G) Polyester polyol
P-00-0446 | 01/24/00 | 04/23/00 | CBI | (G) Open, non-dispersive use;polyurethane adhesives & sealants | (G) Polyester polyol
P-00-0447 | 01/24/00 | 04/23/00 | CBI | (G) Open, non-dispersive use;polyurethane adhesives & sealants | (G) Polyester polyol
P-00-0448 | 01/24/00 | 04/23/00 | CBI | (G) Processing aid | (G) Titanium-aluminum complex on amorphous silica
P-00-0449 | 01/24/00 | 04/23/00 | CBI | (G) Processing aid | (G) Titanium-aluminum complex on amorphous silica
P-00-0450 | 01/24/00 | 04/23/00 | CBI | (G) Processing aid | (G) Titanium-aluminum complex on amorphous silica
P-00-0451 | 01/24/00 | 04/23/00 | CBI | (G) Processing aid | (G) Titanium-aluminum complex on amorphous silica
P-00-0452 | 01/27/00 | 04/26/00 | CBI | (S) Vat dye doe cellulosic fibers | (S) 3h-indol-3-one, 5-bomo-2-(5-bromo-1,3-dihydro-3-oxo-2h-indol-2-ylidene)-, 1,2-dihydro*
P-00-0453 | 01/27/00 | 04/26/00 | Ashland Inc. | (G) Open, non-dispersive use in molding operations | (G) Unsaturated polyester
P-00-0454 | 01/28/00 | 04/27/00 | 3M | (S) Adhesive | (G) Acrylate copolymer
P-00-0455 | 01/28/00 | 04/27/00 | CBI | (G) Contained use | (G) Substituted pyridimium bromides
P-00-0456 | 02/01/00 | 05/01/00 | Dyneon llc | (S) Fluoroelastomer for molded parts | (G) Fluoroelastomer
P-00-0457 | 01/28/00 | 04/27/00 | CBI | (G) Polymeric admixture for concrete | (G) Modified polyethercarboxylate
P-00-0458 | 01/28/00 | 04/27/00 | CBI | (G) Polymeric admixture for concrete | (G) Modified polyethercarboxylate
P-00-0459 | 01/28/00 | 04/27/00 | CBI | (G) Polymeric admixture for concrete | (G) Modified polyethercarboxylate
P-00-0460 | 01/28/00 | 04/27/00 | CBI | (G) Polymeric admixture for concrete | (G) Modified polyethercarboxylate
P-00-0461 | 01/28/00 | 04/27/00 | CBI | (G) Polymeric admixture for concrete | (G) Modified polyethercarboxylate
P-00-0462 | 01/28/00 | 04/27/00 | CBI | (G) Polymeric admixture for concrete | (G) Modified polyethercarboxylate
P-00-0463 | 02/01/00 | 05/01/00 | CBI | (G) Component of coating with open use | (G) Metal salt
P-00-0464 | 02/01/00 | 05/01/00 | CBI | (G) Component of coating with open use | (G) Metal salt
P-00-0465 | 02/01/00 | 05/01/00 | CBI | (S) Moisture curing adhesive for book assembly; moisture curing adhesive for wood laminating | (G) Isocyanate terminated urethane polymer

In table II, EPA provides the following information (to the extent that such information is not claimed as CBI) on the TMEs received:

II. 1 Test Marketing Exemption Notice Received From: 1/1/00 to 1/14/00
Case No. | Received Date | Projected Notice End Date | Manufacturer/Importer | Use | Chemical
T-00-0001 | 01/07/00 | 02/21/00 | CBI | (G) Consumer product ingredient | (G) Salt of substituted aliphatic benzenesulfonic acid

In table III, EPA provides the following information (to the extent that such information is not claimed as CBI) on the Notices of Commencement to manufacture received:

III. 43 Notices of Commencement From: 1/1/00 to 1/14/00
Case No. | Received Date | Commencement/Import Date | Chemical
P-00-0008 | 01/21/00 | 01/07/00 | (S) 2-propenoic acid, polymer with 1,3-butadiene, n-(hydroxymethyl)-2-propenamide and 2-propenenitrile*
P-00-0055 | 01/18/00 | 01/13/00 | (G) Polyisobutylene oxime
P-00-0056 | 01/18/00 | 01/13/00 | (G) Polyisobutylene oxime
P-94-0961 | 01/19/00 | 12/22/99 | (G) Methylene diphenylene diisocyante (mdi) prepolymer
P-95-1214 | 01/03/00 | 12/02/99 | (G) Polyether/polyester/aromatic polyurethane
P-96-0628 | 01/18/00 | 12/22/99 | (G) Neutralized polyacrylic resin
P-96-1132 | 01/18/00 | 12/21/99 | (G) Vinyl modified nonionic surfactant
P-98-1045 | 01/10/00 | 01/04/00 | (S) Oil, canola, polymerized, oxidized*
P-98-1060 | 01/24/00 | 12/20/99 | (G) Mixed vegetable oil fatty acids
P-98-1154 | 01/19/00 | 12/28/99 | (G) Reaction product of ethoxylated fatty amines and ammoniummolybate
P-99-0166 | 01/18/00 | 12/20/99 | (G) Acrylate functional polyester
P-99-0422 | 01/07/00 | 12/10/99 | (G) (polyalkoxy, polyester) modified acrylate, reaction product with poly (cyanoalkane-alkylene glycol)
P-99-0655 | 01/27/00 | 12/23/99 | (G) 2-anthracenesulfonic acid, 4-[[4-(acetylamino) phenyl]amino]-1-amino-9,10-dihydro-9,10-dioxo-, compd. with alkanol amine-alkylene oxide polymer
P-99-0751 | 01/24/00 | 01/13/00 | (G) Polyester tetrafunctional acrylate
P-99-0764 | 01/24/00 | 01/10/00 | (G) Ester modified melamine acrylate oligomer
P-99-0818 | 01/10/00 | 11/29/99 | (G) Alkylphenol
P-99-0830 | 01/18/00 | 12/27/99 | (G) Synthetic indigo solution
P-99-0890 | 01/27/00 | 12/28/99 | (G) Alkanolamine carboxylate salts
P-99-0891 | 01/27/00 | 12/28/99 | (G) Alkanolamine carboxylate salts
P-99-0922 | 01/18/00 | 12/23/99 | (G) Polyacrylic resin
P-99-0936 | 01/04/00 | 12/17/99 | (S) Fatty acids, C8-10, reaction products with epoxidized soybean oil, ethoxylated*
P-99-1041 | 01/12/00 | 12/28/99 | (G) Pyrazolotriazolyl substituted acetamide
P-99-1046 | 01/10/00 | 01/04/00 | (S) Octadecanoic acid, 12-(benzoyloxy)-, 2-ethylhexyl ester (9ci) *
P-99-1051 | 01/03/00 | 12/16/99 | (G) Blocked polyurethane dispersion
P-99-1070 | 01/10/00 | 12/16/99 | (G) Acrylic polymer on the basis of methyl methacrylate and n-butyl methacrylate
P-99-1095 | 01/06/00 | 12/14/99 | (G) Perfluoropolyether derivative
P-99-1101 | 01/19/00 | 01/10/00 | (G) Organo silane ester
P-99-1109 | 01/24/00 | 01/12/00 | (S) Alcohols, C12-18, ethers with polyethylene glycol mono-bu ether*
P-99-1152 | 01/10/00 | 12/23/99 | (G) Substituted aminophenol
P-99-1153 | 01/10/00 | 12/19/99 | (G) Substituted aminophenol
P-99-1154 | 01/19/00 | 01/08/00 | (G) Substituted hexanoic acids esters
P-99-1156 | 01/19/00 | 01/10/00 | (G) Substituted oxazolidinedione
P-99-1181 | 01/18/00 | 12/29/99 | (S) Morpholine, sulfate (2:1) *
P-99-1237 | 01/27/00 | 01/05/00 | (G) Arylsulfonic acid, 2-[[6-[[4-chloro-6-[[4-[[2-(substituted]phenyl]amino]-1,3,5-triazin-2-yl]amino]-1-hydroxy-3-sulfo-2-naphthalenyl]azo]-, sodium salt
P-99-1249 | 01/17/00 | 12/14/99 | (G) Polyester acrylate
P-99-1251 | 01/10/00 | 12/31/99 | (G) Tin-ii-carboxylate
P-99-1296 | 01/12/00 | 12/26/99 | (G) Substituted phenyl butanoic acid
P-99-1299 | 01/14/00 | 01/11/00 | (G) Amino epoxy silane
P-99-1300 | 01/12/00 | 12/28/99 | (G) Substituted phenyl butanoyl chloride
P-99-1316 | 01/19/00 | 12/17/99 | (G) Rosin modified phenolic resin
P-99-1365 | 01/13/00 | 01/10/00 | (G) Aromatic polyurethane
P-99-1370 | 01/17/00 | 01/14/00 | (G) Aromatic polyester polyurethane
P-99-1387 | 01/18/00 | 01/04/00 | (G) Substituted aliphatic carboxylic acid

List of Subjects

Environmental protection, Chemicals, Premanufacturer notices.

Dated: February 16, 2000.
Deborah A. Williams,
Acting Director, Information Management Division, Office of Pollution Prevention and Toxics.

[FR Doc. 00-4420 Filed 2-24-00; 8:45 am]

BILLING CODE 6560-50-F